DEPARTMENT OF COMMERCE

International Trade Administration

[A-552-816]

Welded Stainless Pressure Pipe From the Socialist Republic of Vietnam: Preliminary Determination of Sales at Less Than Fair Value and Postponement of Final Determination

AGENCY: Enforcement and Compliance, formerly Import Administration, International Trade Administration, Department of Commerce.

SUMMARY: The Department of Commerce (“the Department”) preliminarily determines that welded stainless pressure pipe from the socialist republic of Vietnam (“Vietnam”) is being, or is likely to be, sold in the United States at less than fair value (“LTFV”), as provided in section 733 of the Tariff Act of 1930, as amended (“the Act”). The weighted-average dumping margins are shown in the “Preliminary Determination” section of this notice. Interested parties are invited to comment on this preliminary determination. Pursuant to requests from respondents, we are postponing for 60 days the final determination and extending provisional measures from a four-month period to not more than six months. Accordingly, the final determination will be issued not later than 135 days after publication of this preliminary determination in the Federal Register.

DATES: Effective Date: January 7, 2014.

FOR FURTHER INFORMATION CONTACT: Lilit Astvatsatrian or Robert Bolling, AD/CVD Operations, Office 4, Enforcement and Compliance, International Trade Administration, Department of Commerce, 1401 Constitution Avenue NW., , Washington, D.C. 20230; telephone: (202) 482-6412 or (202) 482-3434, respectively.

SUPPLEMENTARY INFORMATION:

Scope of the Investigation

The merchandise covered by this investigation is circular welded austenitic stainless pressure pipe not greater than 14 inches in outside diameter. For purposes of this investigation, references to size are in nominal inches and include all products within tolerances allowed by pipe specifications. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications.

Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A269, ASTM A-270 or comparable domestic or foreign specifications.

The subject imports are normally classified in subheadings 7306.40.5005, 7306.40.5040, 7306.40.5062, 7306.40.5064, and 7306.40.5085 of the Harmonized Tariff Schedule of the United States (HTSUS). They may also enter under HTSUS subheadings 7306.40.1010, 7306.40.1015, 7306.40.5042, 7306.40.5044, 7306.40.5080, and 7306.40.5090. The HTSUS subheadings are provided for convenience and customs purposes only; the written description of the scope of these investigations is dispositive.

Tolling of Deadlines for Preliminary Determination

As explained in the memorandum from the Assistant Secretary for Enforcement and Compliance, the Department has exercised its discretion to toll deadlines for the duration of the closure of the Federal Government from October 1, through October 16, 2013.¹ Therefore, all deadlines in this segment of the proceeding have been extended by 16 days. If the new deadline falls on a non-business day, in accordance with the Department's practice, the deadline will become the next business day. The revised deadline for the preliminary determination of this investigation is now December 30, 2013.

¹ See Memorandum for the Record from Paul Piquado, Assistant Secretary for Enforcement and Compliance, “Deadlines Affected by the Shutdown of the Federal Government” (October 18, 2013).

Methodology

The Department has conducted this antidumping duty investigation in accordance with section 731 of the Act. Export prices and constructed export prices have been calculated in accordance with section 772 of the Act. Because Vietnam is a non-market economy within the meaning of section 771(18) of the Act, normal value has been calculated in accordance with section 773(c) of the Act.

For a full description of the methodology underlying our conclusions, see “Decision Memorandum for Preliminary Determination of the Antidumping Duty Investigation of Welded Stainless Pressure Pipe from Vietnam” from Abdelali Elouaradia, Director Office IV, Antidumping and Countervailing Duty Operations, to Christian Marsh, Deputy Assistant Secretary for Antidumping and Countervailing Duty Operations, dated concurrently with this notice (“Preliminary Decision Memorandum”) and hereby adopted by this notice. The Preliminary Decision Memorandum is a public document and is on file electronically via Enforcement and Compliance's Antidumping and Countervailing Duty Centralized Electronic Service System (“IA ACCESS”). IA ACCESS is available to registered users at http://iaaccess.trade.gov, and is available to all parties in the Central Records Unit, Room 7046 of the main Department of Commerce building. In addition, a complete version of the Preliminary Decision Memorandum can be accessed directly on the Internet at http://www.trade.gov/ia/. The signed Preliminary Decision Memorandum and the electronic versions of the Preliminary Decision Memorandum are identical in content.

Combination Rates

As announced in the Initiation Notice, ² the Department has calculated combination rates for the respondents that are eligible for a separate rate in this investigation. This practice is described in Policy Bulletin 05.1.

² See Welded Stainless Pressure Pipe From Malaysia, Thailand, and the Socialist Republic of Vietnam: Initiation of Antidumping Duty Investigations, 78 FR 35253 (June 12, 2013) (“Initiation Notice”).

Preliminary Determination

The Department preliminarily determines that the following weighted-average dumping margins exist:

Exporter | Producer | Weighted average dumping margin
Sonha International Corporation | Sonha International Corporation | 17.72
Mejonson Industrial Vietnam Co., Ltd | Mejonson Industrial Vietnam Co., Ltd. | 17.72
Vietnam-Wide Entity |  | 53.91

Disclosure and Public Comment

The Department intends to disclose calculations performed for this preliminary determination to the parties within five days of the date of publication of this notice in accordance with 19 CFR 351.224(b).

Case briefs or other written comments may be submitted to the Assistant Secretary for Enforcement and Compliance via IA ACESS ³ no later than seven days after the date on which the final verification report is issued in this proceeding, and rebuttal briefs, limited to issues raised in case briefs, may be submitted no later than five days after the deadline date for case briefs.⁴ A table of contents, list of authorities used, and an executive summary of issues should accompany any briefs submitted to the Department. This summary should be limited to five pages total, including footnotes. Interested parties, who wish to request a hearing, or to participate if one is requested, must submit a written request to the Assistant Secretary for Enforcement and Compliance, U.S. Department of Commerce, filed electronically using IA ACCESS, within 30 days after the date of publication of this notice.⁵ An electronically filed document must be received successfully in its entirety by the Department's electronic records system, IA ACCESS, by 5:00 p.m. Eastern Time. Requests should contain the party's name, address, and telephone number, the number of participants, and a list of the issues to be discussed. If a request for a hearing is made, the Department intends to hold the hearing at the U.S. Department of Commerce, 14th Street and Constitution Avenue NW., Washington, DC 20230, at a time to be determined. Parties should confirm by telephone the date, time, and location of the hearing two days before the scheduled date.

³ See generally 19 CFR 351.303 (for procedural rules regarding the filing of documents in AD proceedings).

⁴ See 19 CFR 351.309.

⁵ See 19 CFR 351.310(c).

Postponement of Final Determination and Extension of Provisional Measures

Pursuant to requests from Sonha, we are postponing the final determination and extending the provisional measures from a four-month period to not more than six months. Accordingly, we will make our final determination no later than 135 days after the date of publication of this preliminary determination, pursuant to section 735(a)(2) of the Act.

Suspension of Liquidation

In accordance with section 733(d) of the Act, the Department will instruct U.S. Customs and Border Protection (“CBP”) to suspend liquidation of all entries of welded stainless pressure pipe from Vietnam, as described in the “Scope of the Investigation” section, entered or withdrawn from warehouse, for consumption, on or after the date of publication of this notice in the Federal Register.

Pursuant to 19 CFR 351.205(d), the Department will instruct CBP to require a cash deposit ⁶ equal to the weighted-average amount by which normal value exceeds U.S. price as follows: (1) the separate-rate weighted-average dumping margin for the exporter/producer combinations listed in the table above will be the rate the Department has determined in this preliminary determination; (2) for all combinations of Vietnam exporters/producers of merchandise under consideration which have not received their own separate-rate weighted-average dumping margin above, the cash-deposit rate will be the cash deposit rate established for the Vietnam-wide entity; and (3) for all non-Vietnam exporters of merchandise under consideration which have not received their own separate rate above, the cash deposit rate will be the cash deposit rate applicable to the Vietnam exporter/producer combination that supplied that non-Vietnam exporter. These cash deposit instructions will remain in effect until further notice.

⁶ See Modification of Regulations Regarding the Practice of Accepting Bonds During the Provisional Measures Period in Antidumping and Countervailing Duty Investigations, 76 FR 61042 (October 3, 2011).

International Trade Commission (“ITC”) Notification

In accordance with section 733(f) of the Act, we have notified the ITC of our preliminary affirmative determination of sales at LTFV. Section 735(b)(2) of the Act requires the ITC to make its final determination as to whether the domestic industry in the United States is materially injured, or threatened with material injury, by reason of imports of welded stainless pressure pipe, or sales (or the likelihood of sales) for importation, of the merchandise under consideration within 45 days of our final determination.

This determination is issued and published in accordance with sections 733(f) and 777(i)(1) of the Act.

Dated: December 30, 2013.
Christian Marsh,
Deputy Assistant Secretary for Antidumping and Countervailing Duty Operations.

List of Topics Discussed in the Preliminary Decision Memorandum

1. Initiation

2. Postponement of Preliminary Determination

3. Postponement of Final Determination and Extension of Provisional Measures

4. Scope of the Investigation

5. Scope Comments

6. Non-Market Economy Country

7. Surrogate Country

a. Economic Comparability

b. Significant Producers of Identical or Comparable Merchandise

c. Data Availability

8. Surrogate Value Comments

9. Separate Rate

a. Separate Rate Respondents

b. Dumping Margin for the Separate Rate Company

10. Date of Sale

11. Fair Value Comparisons

a. Export Price

b. Normal Value

c. Factor Valuations

d. Currency Conversion

12. Determination of Comparison Method

a. Results of DP Analysis

13. Vietnam-Wide Entity

14. Verification

[FR Doc. 2014-00036 Filed 1-6-14; 8:45 am]

BILLING CODE 3510-DS-P